DEPARTMENT OF THE INTERIOR

Bureau of Land Management

[LLNMF00000 L13110000.XH0000]

Notice of Public Meeting, Farmington District Resource Advisory Council Meeting, New Mexico

AGENCY: Bureau of Land Management, Interior.

ACTION: Notice of public meeting.

SUMMARY: In accordance with the Federal Land Policy and Management Act and the Federal Advisory Committee Act of 1972, the U.S. Department of the Interior, Bureau of Land Management (BLM), Farmington District Resource Advisory Council (RAC), will meet as indicated below.

DATES: The meeting date is November 16, 2011, at the BLM Farmington District Office, 1235 La Plata Highway, Farmington, NM 87401, from 10 a.m.-4:30 p.m. The public may send written comments to the RAC at the above address.

FOR FURTHER INFORMATION CONTACT: Bill Papich, BLM Farmington District Office, 1235 La Plata Highway, Farmington, NM 87401, 505-599-6324. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member RAC advises the Secretary of the Interior, through the BLM, on a variety of planning and management issues associated with public land management in New Mexico.

Planned agenda items include a welcome and introduction of new Council members, election of a chairperson, discussion of charter and operating procedures, discussion of issues and concerns related to the BLM Farmington District, and discussion of future project work for the Farmington District RAC.

A half-hour public comment period during which the public may address the RAC is scheduled to begin at 2:30 p.m. on November 16, 2011. All RAC meetings are open to the public. Depending on the number of individuals wishing to comment and time available, the time for individual oral comments may be limited.

Dave Evans,
District Manager, Farmington.

[FR Doc. 2011-27405 Filed 10-21-11; 8:45 am]

BILLING CODE 4310-VB-P